DEPARTMENT OF THE INTERIOR

Fish and Wildlife Service

[FWS-R4-R-2008-N0103; 40136-1265-0000-S3]

Lake Wales Ridge National Wildlife Refuge, Polk and Highlands Counties, FL

AGENCY: Fish and Wildlife Service, Interior.

ACTION: Notice of intent to prepare a comprehensive conservation plan and environmental assessment; request for comments.

SUMMARY: We, the U.S. Fish and Wildlife Service (Service), intend to prepare a comprehensive conservation plan (CCP) and associated National Environmental Policy Act (NEPA) documents for Lake Wales Ridge National Wildlife Refuge. We provide this notice in compliance with our CCP policy to advise other agencies, Tribes, and the public of our intentions, and to obtain suggestions and information on the scope of issues to consider in the planning process.

DATES: To ensure consideration, we must receive your written comments by July 21, 2008. Special mailings, newspaper articles, and other media announcements will be used to inform the public and State and local government agencies of the opportunities for input throughout the planning process. A public scoping meeting will be held early in the CCP development process. The date, time, and place for the meeting will be announced in the local media.

ADDRESSES: Comments, questions, and requests for information should be sent to: Bill Miller, Merritt Island National Wildlife Refuge, P.O. Box 6504, Titusville, FL 32782-6504; Fax: 321/861-1276; Electronic mail: LakeWalesRidgeCCP@fws.gov.

FOR FURTHER INFORMATION CONTACT: Bill Miller; Telephone: 561/715-0023.

SUPPLEMENTARY INFORMATION:

Introduction

With this notice, we initiate our process for developing a CCP for Lake Wales Ridge National Wildlife Refuge in Highlands and Polk Counties, Florida.

This notice complies with our CCP policy to (1) advise other Federal and State agencies, Tribes, and the public of our intention to conduct detailed planning on this refuge; and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each national wildlife refuge. The purpose in developing a CCP is to provide refuge managers with a 15-year strategy for achieving refuge purposes and contributing to the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Each unit of the National Wildlife Refuge System is established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for Tribal, State, and local governments; agencies; organizations; and the public. At this time we encourage input in the form of issues, concerns, ideas, and suggestions for the future management of Lake Wales Ridge National Wildlife Refuge. Special mailings, newspaper articles, and other media outlets will be used to announce opportunities for input throughout the planning process.

We will conduct the environmental assessment in accordance with the requirements of the National Environmental Policy Act of 1969, as amended (NEPA) (42 U.S.C. 4321 et seq.); NEPA regulations (40 CFR parts 1500-1508); other appropriate Federal laws and regulations; and our policies and procedures for compliance with those laws and regulations.

Lake Wales Ridge National Wildlife Refuge is managed as a unit of the Merritt Island National Wildlife Refuge Complex in Titusville, FL, which is about 100 miles away. Other refuges in the Complex include St. Johns, Pelican Island, Archie Carr, and Lake Woodruff.

The refuge was established in 1993 for the protection of threatened and endangered plants and animals: “ * * * to conserve (A) fish or wildlife which are listed as endangered species * * * or (B) plants * * * ” (16 U.S.C. 1534, Endangered Species Act).

The refuge is composed of four tracts totaling ±1,857 acres in Polk and Highlands Counties along the south central Florida ridge. In Florida geologic terms, the ridge is an ancient beach and sand dune system formed about 2.5 million years ago. Due to its age and historic geological isolation, many of the plants that inhabit ridge ecosystems are unique and found nowhere else in the world. The refuge contains prime examples of several highly imperiled ecosystems, including Florida scrub and sandhill, as well as over half of the federally listed plant species endemic to the Lake Wales Ridge. The refuge protects 22 federally listed plants, 40 endemic plants, at least 4 listed animals, and more than 40 endemic invertebrates. Because of the potential for impacts to these plants and animals, the refuge has not been opened to the public.

Each of the four tracts comprising the refuge has its own particular merits and value, as listed. The Carter Creek unit is an excellent example of endemic-rich Lake Wales Ridge sandhill, with nine listed plants; it contains one of only a dozen populations of Florida ziziphus, one of the rarest and most endangered plants in the State. The tracts making up the Flamingo Villas unit have 10 listed species and the only protected populations of Garrett's scrub balm, a woody mint known only from Highlands County. The Lake McLeod unit has 11 listed plants and is the only protected site for scrub lupine, another extremely rare plant. The Snell Creek site contains one of the last remaining tracts of undisturbed sandhill in northern Polk County.

Ridge ecosystems have been reduced by 85 percent from the originally estimated 80,000-acre extent due to development and land use changes. The refuge exists as part of a network of scrub preserves, owned by the State of Florida, The Nature Conservancy, Archbold Biological Station, and Polk and Highland Counties, with similar purposes to protect and manage what remains of this unique ridge ecosystem.

Public Availability and Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: May 19, 2008.
Cynthia K. Dohner,
Acting Regional Director.

[FR Doc. E8-13927 Filed 6-19-08; 8:45 am]

BILLING CODE 4310-55-P